DEPARTMENT OF ENERGY

Federal Energy Regulatory Commission

Combined Notice of Filings #1

Take notice that the Commission received the following electric rate filings:

Docket Numbers: ER14-1724-001.

Applicants: Midcontinent Independent System Operator, Inc.

Description: Compliance filing per 35: 2014-08-27_SA 6507 White Pine SSR Agreement Compliance Filing to be effective 4/16/2014.

Filed Date: 8/27/14.

Accession Number: 20140827-5105.

Comments Due: 5 p.m. ET 9/17/14.

Docket Numbers: ER14-1725-001.

Applicants: Midcontinent Independent System Operator, Inc.

Description: Compliance filing per 35: 2014-08-27 Schedule 43H White Pine SSR Compliance Filing to be effective 4/16/2014.

Filed Date: 8/27/14.

Accession Number: 20140827-5106.

Comments Due: 5 p.m. ET 9/17/14.

Docket Numbers: ER14-1969-002.

Applicants: Public Service Company of Colorado.

Description: Deficiency Letter Response of Public Service Company of Colorado.

Filed Date: 8/26/14.

Accession Number: 20140826-5133.

Comments Due: 5 p.m. ET 9/16/14.

Docket Numbers: ER14-2399-001.

Applicants: Southwest Power Pool, Inc.

Description: Tariff Amendment per 35.17(b): Attachment AE—Integrated Marketplace Amendment Filing—ER14-2399 to be effective 9/8/2014.

Filed Date: 8/27/14.

Accession Number: 20140827-5050.

Comments Due: 5 p.m. ET 9/17/14.

Docket Numbers: ER14-2452-001.

Applicants: Louisville Gas and Electric Company.

Description: Tariff Amendment per 35.17(b): Att L Amendment Filing to be effective 9/15/2014.

Filed Date: 8/27/14.

Accession Number: 20140827-5036.

Comments Due: 5 p.m. ET 9/17/14.

Docket Numbers: ER14-2705-000.

Applicants: PJM Interconnection, L.L.C.

Description: § 205(d) rate filing per 35.13(a)(2)(iii): Revisions to the OATT re: FMU Adder to be effective 11/1/2014.

Filed Date: 8/26/14.

Accession Number: 20140826-5051.

Comments Due: 5 p.m. ET 9/16/14.

Docket Numbers: ER14-2711-000.

Applicants: Midcontinent Independent System Operator, Inc.

Description: § 205(d) rate filing per 35.13(a)(2)(iii): 2014-08-xx 719 extension request to be effective 6/12/2012.

Filed Date: 8/26/14.

Accession Number: 20140826-5117.

Comments Due: 5 p.m. ET 9/16/14.

Docket Numbers: ER14-2712-000.

Applicants: Portland General Electric Company.

Description: Compliance filing per 35: PGE11 MBR Revisions 2014 to be effective 9/1/2014.

Filed Date: 8/27/14.

Accession Number: 20140827-5000.

Comments Due: 5 p.m. ET 9/17/14.

Docket Numbers: ER14-2713-000.

Applicants: Portland General Electric Company.

Description: § 205(d) rate filing per 35.13(a)(2)(iii): Sched 5-6 Att N Sec 3 to be effective 10/1/2014.

Filed Date: 8/27/14.

Accession Number: 20140827-5035.

Comments Due: 5 p.m. ET 9/17/14.

Docket Numbers: ER14-2714-000.

Applicants: MidAmerican Energy Company.

Description: § 205(d) rate filing per 35.13(a)(2)(iii): Blackhawk-Hazleton Joint Ownership Agreement to be effective 10/24/2014.

Filed Date: 8/27/14.

Accession Number: 20140827-5048.

Comments Due: 5 p.m. ET 9/17/14.

Docket Numbers: ER14-2715-000.

Applicants: Midcontinent Independent System Operator, Inc.

Description: § 205(d) rate filing per 35.13(a)(2)(iii): 2014-08-27_SA 2690 Big Stone Plant T-T IA to be effective 8/28/2014.

Filed Date: 8/27/14.

Accession Number: 20140827-5080.

Comments Due: 5 p.m. ET 9/17/14.

Docket Numbers: ER14-2716-000.

Applicants: Michigan Electric Transmission Company.

Description: § 205(d) rate filing per 35.13(a)(2)(iii): Filing of CIAC Agreement with ITC Interconnection LLC to be effective 10/26/2014.

Filed Date: 8/27/14.

Accession Number: 20140827-5082.

Comments Due: 5 p.m. ET 9/17/14.

Docket Numbers: ER14-2717-000.

Applicants: Midcontinent Independent System Operator, Inc.

Description: § 205(d) rate filing per 35.13(a)(2)(iii): 2014-08-27_SA 2691 Big Stone Substation T-T IA (NSP-OTP) to be effective 8/28/2014.

Filed Date: 8/27/14.

Accession Number: 20140827-5084.

Comments Due: 5 p.m. ET 9/17/14.

Docket Numbers: ER14-2719-000.

Applicants: Midcontinent Independent System Operator, Inc.

Description: § 205(d) rate filing per 35.13(a)(2)(iii): 2014-08-27_SA 2692 Big Stone South-Brookings T-T IA (NSP-OTP) to be effective 8/28/2014.

Filed Date: 8/27/14.

Accession Number: 20140827-5087.

Comments Due: 5 p.m. ET 9/17/14.

Docket Numbers: ER14-2720-000.

Applicants: Limon Wind, LLC.

Description: § 205(d) rate filing per 35.13(a)(2)(iii): Limon Wind, LLC Amended and Restated Shared Facilities Agreement to be effective 8/28/2014.

Filed Date: 8/27/14.

Accession Number: 20140827-5130.

Comments Due: 5 p.m. ET 9/17/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 27, 2014.
Nathaniel J. Davis, Sr.,
Deputy Secretary.

[FR Doc. 2014-21095 Filed 9-4-14; 8:45 am]

BILLING CODE 6717-01-P